CORPORATION FOR NATIONAL AND COMMUNITY SERVICE

Renewal of a Currently Approved Information Collection With Revisions; Submission for OMB Review; Comment Request

AGENCY: Corporation for National and Community Service.

ACTION: Notice.

SUMMARY: The Corporation for National and Community Service (hereinafter the Corporation”) has submitted a public information collection request (ICR) to the Office of Management and Budget (OMB) for review and approval in accordance with the Paperwork Reduction Act of 1995, Public Law 104-13, (44 U.S.C. Chapter 35). Copies of this ICR, with applicable supporting documentation, may be obtained by calling the Corporation for National and Community Service, Tim McManus, Director of Marketing at (202) 606-6723. Individuals who use a telecommunications device for the deaf (TTY-TDD) may call (800) 833-3722 between the hours of 9 a.m. and 5 p.m. eastern standard time, Monday through Friday.

DATES: Written comments must be submitted to the individuals and offices listed in the ADDRESSES section by December 5, 2005.

ADDRESSES: Comments may be submitted, identified by the title of the information collection activity, to the Office of Information and Regulatory Affairs, Attn: Ms. Katherine Astrich, OMB Desk Officer for the Corporation for National and Community Service, by either of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

FOR FURTHER INFORMATION CONTACT: Tim McManus, (202) 606-6723, or by email at tmcmanus@cns.gov.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Comments: A 60-day Federal Register notice for Revision of Currently Approved Information Collection was published on July 28, 2005. The comment period ended on September 26, 2005. No comments were received.

Description: The AmeriCorps member application will gather data from applicants, including background information, educational history, skills and experience, and a motivational statement. AmeriCorps may use this information to evaluate their suitability for becoming a member and to place them in the most appropriate program(s) that match their skills and interests. The application has a few changes from the previously approved application, and if approved, the Corporation will continue to allow applicants to complete one application to be considered for multiple programs within AmeriCorps. This new application will continue to be cost-effective for the government by providing a centralized information source and streamlined process for receiving applications and placing them into the proper programs. Therefore, the Corporation seeks approval of its new AmeriCorps Application for membership.

Type of Review: Renewal with Revisions.

Agency: Corporation for National and Community Service.

Title: AmeriCorps Application for Membership.

OMB Number: 3045-0054.

Agency Number: None.

Affected Public: Those individuals interested in applying to become a member of any of the AmeriCorps programs, including AmeriCorps*NCCC and AmeriCorps*VISTA and the state and local programs located throughout the country that recruit AmeriCorps members.

Total Respondents: 225,000.

Frequency: One time.

Average Time Per Response: 75 minutes.

Estimated Total Burden Hours: 281,250 hours.

Total Burden Cost (capital/startup): None.

Total Burden Cost (operating/maintenance): None.

Dated: October 28, 2005.
Tim McManus,
Director of Marketing.

[FR Doc. 05-22023 Filed 11-3-05; 8:45 am]

BILLING CODE 6050-$$-P